NATIONAL SCIENCE FOUNDATION

Request for Information: Biomaterials Program

AGENCY: National Science Foundation.

ACTION: Request for Information.

SUMMARY: The U.S. National Science Foundation's (NSF) Biomaterials (BMAT) Program requests input from stakeholders on opportunities, challenges, emerging areas, and frontiers in biomaterials research. This RFI will help inform NSF as it considers future program directions, new initiatives, and potential funding opportunities.

DATES: Interested persons are invited to submit comments between August 14 and September 19, 2024.

FOR FURTHER INFORMATION CONTACT:

Nitsa Rosenzweig, Biomaterials Program Director, 2415 Eisenhower Avenue, Room W 9213, Alexandria, Virginia 22314; telephone (703) 292-7256; or send email to nirosenz@nsf.gov.

Dan Savin, Biomaterials Program Director, 2415 Eisenhower Avenue, Room W 9213, Alexandria, Virginia 22314; telephone (703) 292-4644; or send email to dsavin@nsf.gov.

Individuals who use a telecommunications device for the deaf (TDD) may call the Federal Information Relay Service (FIRS) at 1-800-877-8339, which is accessible 24 hours a day, 7 days a week, 365 days a year (including Federal holidays).

SUPPLEMENTARY INFORMATION:

Instructions: Response to this RFI is voluntary and anonymous. Respondents may participate in this RFI by submitting comments through the online survey at www.surveymonkey.com/r/BMAT-2024-RFI. Each individual is requested to submit only one response. Please limit your response to no more than 100 words per question.

In accordance with FAR 15.202(3), responses to this notice are not offers and cannot be accepted by the Government to form a binding contract. Responders are solely responsible for all expenses associated with responding to this RFI.

Background Information: The Biomaterials program supports fundamental materials research related to (1) biological materials, (2) biomimetic, bioinspired, and bioenabled materials, (3) synthetic materials intended for applications in contact with biological systems, and (4) the processes through which nature produces biological materials. This RFI is part of NSF's effort to think about opportunities, challenges, emerging areas, and frontiers in biomaterials research.

Information Requested: Responders are asked to answer one or more of the following questions in responses to the RFI:

1. What are emerging research areas at the frontier of biomaterials research?

2. Briefly describe areas in which the biomaterials community can address societal needs or benefit society.

3. What potential deliverables or advances in biomaterials are achievable in a five-year effort?

4. What disciplines in industry, academia, government, philanthropy, non-profits, or another sector outside of the biomaterials community could serve as partners in solving specific biomaterials-related challenges? Please identify the challenges that may be addressed by each partnership.

(Authority: 42 U.S.C. 1861, et al.)

Dated: August 15, 2024.
Suzanne H. Plimpton,
Reports Clearance Officer, National Science Foundation.

[FR Doc. 2024-18650 Filed 8-19-24; 8:45 am]

BILLING CODE 7555-01-P